ENVIRONMENTAL PROTECTION AGENCY

(ER-FRL-6621-8)

Environmental Impact Statements; Notice of Availability

Responsible Agency: Office of Federal Activities, General Information (202) 564-7167 or www.epa.gov/ocea/ofa.

Weekly receipt of Environmental Impact Statements

Filed September 3, 2001 Through September 7, 2001

Pursuant to 40 CFR 1506.9.

Because of our nation's tragedy, the Environmental Protection Agency Notice of Availability of Environmental Impact Statements for the week of September 3 through September 7, 2001, which should have appeared in the Federal Register on September 14, 2001, is being published in the September 21, 2001 Federal Register. All Comment and Wait Periods for EISs filed during the week of September 3 through September 7 are calculated from 09/14/2001, unless otherwise indicated.

EIS No. 010337, FINAL EIS, AFS, ID, Spruce Moose and Moose Lake Right-of-Way Analysis Area, Implementation, Timber Harvesting, Road Construction, Reforestation and Watershed Restoration, Clearwater National Forest, Lochsa Ranger District, Idaho County, ID , Wait Period Ends: October 09, 2001, Contact: Cynthia A. Lane (208) 926-4275. This FEIS should have appeared in the Federal Register on 09/07/2001. The 30-Day Wait Period is Calculated from 09/07/2001.

EIS No. 010338, FINAL EIS, FHW, TX, Tyler Loop 49 West, Construction from the TX-155 Highway to I-20 Highway, Funding, NPDES and COE Section 404 Permits, Smith County, TX , Wait Period Ends: October 15, 2001, Contact: Paul Clutts (512) 536-5968.

EIS No. 010339, FINAL EIS, AFS, MT, Asarco Rock Creek Copper and Silver Mining Construction and Operation Project, Plan of Operations Approval, Special Use Permit(s), Road Use Permit, Mineral Material Permit, Timber Sale Contract and COE Section 404 Permit Issuance, Kootenai National Forest, Sanders County, MT, Wait Period Ends: October 15, 2001, Contact: John McKay (406) 293-6211. This document is available on the Internet at: DEQ: http://www.deq.state.mt.us/eis.asp and KNF: http://www.fs.fed.us/r1/kootenai.

EIS No. 010340, FINAL EIS, NPS, OK, Washita Battlefield National Historic Site, General Management Plan, Implementation, Roger Mill County, OK, Wait Period Ends: October 15, 2001, Contact: Sarah Craighead (580) 497-2742.

EIS No. 010341, DRAFT EIS, AFS, OR, Shore 'Nuf Timber Sale, a proposal for Harvesting Timber on the Detroit Ranger District, Willamette National Forest, Linn and Marion Counties, OR, Comment Period Ends: October 29, 2001, Contact: Jim Romero (503) 854-4212.

EIS No. 010342, FINAL EIS, BLM, NV, Reno Clay Plant Project, Construct and Operate an Open-Pit Clay Mine and Ore Processing Facility, Plan-of-Operations, Oil-Dri Corporation of Nevada, Hungry Valley, Washoe County, NV, Wait Period Ends: October 15, 2001, Contact: Terri Knutson (775) 885-6156. This document is available on the Internet at: www.nv.blm.gov/carson.

EIS No. 010343, Final Supplemental, FHW, IL, FAP Route 340 Transportation Project, Construction from I-55 to I-80, Funding, US Coast Guard Permit and COE Section 404 Permit, Cook, Dupage and Will Counties, IL, Wait Period Ends: October 15, 2001, Contact: Norman R. Stoner (217) 492-4640.

EIS No. 010344, Final EIS, AFS, AK, Woodpecker Project Area, Timber Harvesting, Dispered Recreation Opportunities and Watershed Improvements, Implementation, Tongass National Forest, Petersburg Ranger District, Mitkof Islands, Petersburg, AK, Wait Period Ends: October 15, 2001, Contact: Cynthia Sever (907) 772-3871. This document is available on the Internet at: www.fs.fed.us/r10/Tongass.

EIS No. 010345, Final Supplemental, COE, NC, Manteo (Shallowbay) Bay Project, Enlarging and Deepening Basin at Wanchese, Dare County, NC,Wait Period Ends: October 22, 2001, Contact:Glenda Ashford (404) 562-5222.

EIS No. 010346, Draft Supplemental, COE, CA, American River Watershed Long-Term Study, Updated Information, To Provide Flood Damage Reduction and Ecosystem Restoration, between Folsom Dam and the Sacramento River, Sacramento, Placer and Sutter Counties, CA, Comment Period Ends: October 29, 2001,Contact: Veronica Petrovsky (916) 557-7245.

EIS No. 010347, Draft EIS, COE, Programmatic EISNationwide Permits Procedures Review and Examination,US Army Corps of Engineers Section 10 and 404 Permit Issuance,Comment Period Ends: October 29, 2001,Contact: Dr. Bob Brumbaugh (703) 428-7069.

Dated: September 18, 2001.
Joseph C. Montgomery,
Director, NEPA Compliance Division, Office of Federal Activities.

[FR Doc. 01-23643 Filed 9-20-01; 8:45 am]

BILLING CODE 6560-50-P